DEPARTMENT OF COMMERCE

National Oceanic and Atmospheric Administration

[RTID 0648-XA085]

Mid-Atlantic Fishery Management Council (MAFMC); Public Meeting

AGENCY: National Marine Fisheries Service (NMFS), National Oceanic and Atmospheric Administration (NOAA), Commerce.

ACTION: Notice; public meetings.

SUMMARY: The Atlantic Mackerel, Squid, and Butterfish (MSB) Advisory Panel of the Mid-Atlantic Fishery Management Council (Council) will hold two meetings.

DATES: The meetings will be held on Tuesday, March 31, 2020 and Tuesday, April 14, 2020. Both will begin at 3 p.m. and conclude by 6 p.m. For agenda details, see SUPPLEMENTARY INFORMATION.

ADDRESSES: The meetings will be held via webinar with a telephone-only audio connection: http://mafmc.adobeconnect.com/illex-wg/. Telephone instructions are provided upon connecting, or the public can call direct: (800) 832-0736, Rm: *7833942#.

Council address: Mid-Atlantic Fishery Management Council, 800 N State Street, Suite 201, Dover, DE 19901; telephone: (302) 674-2331 or on their website at www.mafmc.org.

FOR FURTHER INFORMATION CONTACT: Christopher M. Moore, Ph.D., Executive Director, Mid-Atlantic Fishery Management Council, telephone: (302) 526-5255.

SUPPLEMENTARY INFORMATION: The primary purpose of the meetings is to gather Advisory Panel input on analysis related to possible changes to the Illex squid quota. An agenda and any background documents will be posted at the Council's website (www.mafmc.org) prior to the meeting. At the March 31, 2020 meeting, the Advisory Panel will be asked for input on creating a Fishery Performance Report for the Illex fishery.

Special Accommodations

These meetings are physically accessible to people with disabilities. Requests for sign language interpretation or other auxiliary aid should be directed to M. Jan Saunders, (302) 526-5251, at least 5 days prior to any meeting date.

Authority: 16 U.S.C. 1801 et seq.

Dated: March 13, 2020.
Tracey L. Thompson,
Acting Deputy Director, Office of Sustainable Fisheries, National Marine Fisheries Service.

[FR Doc. 2020-05621 Filed 3-17-20; 8:45 am]

BILLING CODE 3510-22-P